DEPARTMENT OF ENERGY

Federal Energy Regulatory Commission

Combined Notice of Filings #1

January 9, 2026.

Take notice that the commission received the following accounting Request filings:

Docket Numbers: AC26-19-000.

Applicants: Entergy Services, LLC, System Energy Resources, Inc.

Description: The Entergy Companies submit proposed accounting entries re Entergy Arkansas, LLC, et al.'s sale of nuclear production tax credits to unaffiliated third parties, related to docket nos. ER25-2890 and ER25-2899.

Filed Date: 1/8/26.

Accession Number: 20260108-5203.

Comment Date: 5 p.m. ET 1/29/26.

Take notice that the Commission received the following Complaints and Compliance filings in EL Dockets:

Docket Numbers: EL26-39-000.

Applicants: Gaston Green Acres Solar, LLC, et al. v. PJM Interconnection, L.L.C.

Description: Complaint of Gaston Green Acres Solar, LLC et al. v. PJM Interconnection, L.L.C., Request for Shortened Comment Period and Fast Track Processing and Request for Alternative Relief.

Filed Date: 1/8/26.

Accession Number: 20260108-5193.

Comment Date: 5 p.m. ET 1/28/26.

Take notice that the Commission received the following electric rate filings:

Docket Numbers: ER17-1840-001; ER22-784-003; ER22-729-002; ER15-2534-001.

Applicants: Saddleback Ridge Wind, LLC, CPV Retail Energy LP, CPV Maple Hill Solar, LLC, Canton Mountain Wind, LLC.

Description: Response to 12/16/2025 Deficiency Letter of CPV Canton Mountain Wind, LLC, et al.

Filed Date: 1/8/26.

Accession Number: 20260108-5207.

Comment Date: 5 p.m. ET 1/29/26.

Docket Numbers: ER18-1977-002; ER18-2194-002; ER18-2217-001; ER19-117-002; ER19-118-002.

Applicants: Innovative Solar 67, LLC, Innovative Solar 54, LLC, Buckleberry Solar, LLC, Fox Creek Farm Solar, LLC, Brantley Farm Solar, LLC.

Description: Response to 12/09/2025 Deficiency Letter of Brantley Farm Solar, LLC et al.

Filed Date: 1/7/26.

Accession Number: 20260107-5188.

Comment Date: 5 p.m. ET 1/28/26.

Docket Numbers: ER20-2054-000.

Applicants: ISO New England Inc., Central Maine Power Company, Versant Power, Fitchburg Gas and Electric Light Company, Green Mountain Power Corporation, New England Power Company, New Hampshire Transmission, LLC, NSTAR Electric Company, Public Service Company of New Hampshire, The Connecticut Light and Power Company, The United Illuminating Company, Unitil Energy Systems, Inc., Vermont Electric Cooperative, Inc., Vermont Transco LLC.

Description: Supplement of Maine Office of Public Advocate to Formal Challenge.

Filed Date: 12/17/25.

Accession Number: 20251217-5219.

Comment Date: 5 p.m. ET 1/20/26.

Docket Numbers: ER25-3508-002.

Applicants: Southwest Power Pool, Inc.

Description: Tariff Amendment: 3927R2 SWEPCO GIA Amended Filing to be effective 9/17/2025.

Filed Date: 1/9/26.

Accession Number: 20260109-5023.

Comment Date: 5 p.m. ET 1/30/26.

Docket Numbers: ER26-232-001.

Applicants: Arlington Valley Solar Energy II, LLC.

Description: Tariff Amendment: Response to Deficiency Letter to be effective 10/27/2025.

Filed Date: 1/9/26.

Accession Number: 20260109-5063.

Comment Date: 5 p.m. ET 1/30/26.

Docket Numbers: ER26-658-000.

Applicants: Pacific Gas and Electric Company.

Description: Motion for Extension of Time of Pacific Gas and Electric Company.

Filed Date: 1/5/26.

Accession Number: 20260105-5202.

Comment Date: 5 p.m. ET 1/15/26.

Docket Numbers: ER26-822-000; ER26-823-000; ER26-824-000.

Applicants: BP Energy Retail Company California LLC, BP Energy Retail Company LLC, BP Energy Company.

Description: Supplement to 12/19/2025 BP Energy Company, et al. tariff filing.

Filed Date: 12/23/25.

Accession Number: 20251223-5482.

Comment Date: 5 p.m. ET 1/13/26.

Docket Numbers: ER26-980-000.

Applicants: PJM Interconnection, L.L.C.

Description: § 205(d) Rate Filing: GDECS Revisions to PJM Tariff, Operating Agreement and RAA to be effective 3/10/2026.

Filed Date: 1/8/26.

Accession Number: 20260108-5187.

Comment Date: 5 p.m. ET 1/29/26.

Docket Numbers: ER26-981-000.

Applicants: Empire Offshore Wind LLC.

Description: § 205(d) Rate Filing: EOW Initial MBR Application to be effective 3/7/2026.

Filed Date: 1/8/26.

Accession Number: 20260108-5189.

Comment Date: 5 p.m. ET 1/29/26.

Docket Numbers: ER26-982-000.

Applicants: PJM Interconnection, L.L.C.

Description: § 205(d) Rate Filing: Amendment to GIA, SA No. 7402; Project Identifier No. AG1-188 to be effective 3/10/2026.

Filed Date: 1/8/26.

Accession Number: 20260108-5190.

Comment Date: 5 p.m. ET 1/29/26.

Docket Numbers: ER26-983-000.

Applicants: American Transmission Systems, Incorporated.

Description: § 205(d) Rate Filing: ATSI submits two Construction Agmts—SA Nos. 7207 & 7272 to be effective 3/11/2026.

Filed Date: 1/9/26.

Accession Number: 20260109-5002.

Comment Date: 5 p.m. ET 1/30/26.

Docket Numbers: ER26-984-000.

Applicants: PJM Interconnection, L.L.C.

Description: § 205(d) Rate Filing: Amendment to ISA, SA No. 6838; Queue No. AF2-356 to be effective 3/11/2026.

Filed Date: 1/9/26.

Accession Number: 20260109-5005.

Comment Date: 5 p.m. ET 1/30/26.

Docket Numbers: ER26-985-000.

Applicants: Colorado Springs Utilities, Southwest Power Pool, Inc.

Description: § 205(d) Rate Filing: Colorado Springs Utilities submits tariff filing per 35.13(a)(2)(iii: Colorado Springs Utilities Formula Rate Filing to be effective 4/1/2026.

Filed Date: 1/9/26.

Accession Number: 20260109-5027.

Comment Date: 5 p.m. ET 1/30/26.

Docket Numbers: ER26-986-000.

Applicants: PacifiCorp.

Description: § 205(d) Rate Filing: Avangrid NITSA Rev 4 (fka Iberdrola) (S.A. No. 742) to be effective 1/1/2026.

Filed Date: 1/9/26.

Accession Number: 20260109-5056.

Comment Date: 5 p.m. ET 1/30/26.

Docket Numbers: ER26-987-000.

Applicants: Dairyland Power Cooperative, Elwood Energy LLC.

Description: Request for Limited Waiver of procedural deadlines set forth in Section 6.6(g) of Attachment DD and Section II.C.4 of Attachment M of the PJM Tariff of Dairyland Power Cooperative and Elwood Energy LLC.

Filed Date: 1/8/26.

Accession Number: 20260108-5204.

Comment Date: 5 p.m. ET 1/29/26.

Docket Numbers: ER26-988-000.

Applicants: Southwest Power Pool, Inc.

Description: § 205(d) Rate Filing: Revisions to Clarify Language Related to the SPP RTO Expansion to be effective 4/1/2026.

Filed Date: 1/9/26.

Accession Number: 20260109-5101.

Comment Date: 5 p.m. ET 1/30/26.

Docket Numbers: ER26-989-000.

Applicants: Commonwealth Edison Company.

Description: § 205(d) Rate Filing: FIling of TSA between ComEd and Equinix to be effective 3/11/2026.

Filed Date: 1/9/26.

Accession Number: 20260109-5110.

Comment Date: 5 p.m. ET 1/30/26.

Docket Numbers: ER26-990-000.

Applicants: Commonwealth Edison Company.

Description: § 205(d) Rate Filing: Filing of TSA between ComEd and QTS Investment to be effective 3/11/2026.

Filed Date: 1/9/26.

Accession Number: 20260109-5113.

Comment Date: 5 p.m. ET 1/30/26.

Docket Numbers: ER26-991-000.

Applicants: Tri-State Generation and Transmission Association, Inc.

Description: § 205(d) Rate Filing: Initial Filing of Rate Schedule No. 432 and Request for Expedited Action to be effective 2/6/2026.

Filed Date: 1/9/26.

Accession Number: 20260109-5118.

Comment Date: 5 p.m. ET 1/30/26.

Docket Numbers: ER26-992-000.

Applicants: Public Service Company of Colorado.

Description: § 205(d) Rate Filing: 2026-01-09 Att N Revisions to be effective 3/10/2026.

Filed Date: 1/9/26.

Accession Number: 20260109-5120.

Comment Date: 5 p.m. ET 1/30/26.

Docket Numbers: ER26-993-000.

Applicants: Tri-State Generation and Transmission Association, Inc.

Description: Tariff Amendment: Notice of Cancellation of Rate Schedule FERC No. 230 to be effective 2/6/2026.

Filed Date: 1/9/26.

Accession Number: 20260109-5123.

Comment Date: 5 p.m. ET 1/30/26.

Docket Numbers: ER26-994-000.

Applicants: Tri-State Generation and Transmission Association, Inc.

Description: § 205(d) Rate Filing: Initial Filing of Rate Schedule No. 433 and Request for Expedited Action to be effective 2/7/2026.

Filed Date: 1/9/26.

Accession Number: 20260109-5126.

Comment Date: 5 p.m. ET 1/30/26.

Docket Numbers: ER26-995-000.

Applicants: Tucson Electric Power Company.

Description: § 205(d) Rate Filing: Second Revised Rate Schedule No. 104 to be effective 1/12/2026.

Filed Date: 1/9/26.

Accession Number: 20260109-5128.

Comment Date: 5 p.m. ET 1/30/26.

Docket Numbers: ER26-996-000.

Applicants: Tri-State Generation and Transmission Association, Inc.

Description: Tariff Amendment: Notice of Cancellation of Rate Schedule FERC No. 309 to be effective 2/7/2026.

Filed Date: 1/9/26.

Accession Number: 20260109-5129.

Comment Date: 5 p.m. ET 1/30/26.

Docket Numbers: ER26-997-000.

Applicants: Atlas Solar Manager, LLC.

Description: Initial rate filing: Shared Facilities Agreement Substation #2 to be effective 12/4/2025.

Filed Date: 1/9/26.

Accession Number: 20260109-5162.

Comment Date: 5 p.m. ET 1/30/26.

Docket Numbers: ER26-998-000.

Applicants: Platte River Power Authority, Southwest Power Pool, Inc.

Description: § 205(d) Rate Filing: Platte River Power Authority submits tariff filing per 35.13(a)(2)(iii: Platte River Power Authority Formula Rate Filing (Zone 101) to be effective 4/1/2026.

Filed Date: 1/9/26.

Accession Number: 20260109-5167.

Comment Date: 5 p.m. ET 1/30/26.

Docket Numbers: ER26-999-000.

Applicants: PJM Interconnection, L.L.C.

Description: § 205(d) Rate Filing: Amendment to ISA, SA No. 4827; Queue No. AC1-010 to be effective 3/11/2026.

Filed Date: 1/9/26.

Accession Number: 20260109-5170.

Comment Date: 5 p.m. ET 1/30/26.

Docket Numbers: ER26-1000-000.

Applicants: PJM Interconnection, L.L.C.

Description: § 205(d) Rate Filing: Notice of Cancellation of WMPA, SA No. 7025; Queue No. AG1-193 to be effective 2/7/2026.

Filed Date: 1/9/26.

Accession Number: 20260109-5174.

Comment Date: 5 p.m. ET 1/30/26.

The filings are accessible in the Commission's eLibrary system by clicking on the links or querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Carlos D. Clay,
Deputy Secretary.

[FR Doc. 2026-00556 Filed 1-13-26; 8:45 am]

BILLING CODE 6717-01-P